DEPARTMENT OF COMMERCE

International Trade Administration

[A-570-863]

Honey From the People's Republic of China: Initiation of New Shipper Antidumping Duty Reviews

AGENCY: Import Administration, International Trade Administration, Department of Commerce.

ACTION: Initiation of new shipper antidumping duty reviews.

EFFECTIVE DATE: August 11, 2003.

FOR FURTHER INFORMATION CONTACT: Angelica Mendoza or Dena Aliadinov or Brandon Farlander at (202) 482-3019 or (202) 482-3362 or (202) 482-0182, respectively; Antidumping and Countervailing Duty Enforcement Group III, Import Administration, International Trade Administration, U.S. Department of Commerce, 14th Street and Constitution Avenue, NW., Washington, DC 20230.

SUPPLEMENTARY INFORMATION:

The Applicable Statute

Unless otherwise indicated, all citations to the statute are references to the provisions effective January 1, 1995, the effective date of the amendments made to the Tariff Act of 1930, as amended (the Act) by the Uruguay Round Agreements Act (URAA). In addition, unless otherwise indicated, all citations to the Department's regulations are references to the provisions codified at 19 CFR part 351 (2003).

Background

The Department received timely requests from Anhui Honghui Foodstuff (Group) Co., Ltd. (Anhui Honghui), Jiangsu Kanghong Natural Healthfoods Co., Ltd. (Jiangsu Kanghong), Cheng Du Wai Yuan Bee Products Co., Ltd. (Wai Yuan), Shanghai Shinomiel International Trade Corporation (Shanghai Shinomiel), Eurasia Bee's Products Co., Ltd. (Eurasia), and Jinfu Trading Co., Ltd. (Jinfu), in accordance with 19 CFR 351.214(c), for new shipper reviews of the antidumping duty order on honey from the People's Republic of China (PRC), which has a December annual anniversary month and a June semiannual anniversary month. See Notice of Amended Final Determination of Sales at Less Than Fair Value and Antidumping Duty Order; Honey from the People's Republic of China, 66 FR 63670 (December 10, 2001). Wai Yuan identified itself as both the exporter and producer of the subject merchandise. Jinfu identified itself as the exporter of honey produced by its supplier, Cixi City Yikang Bee Industry Co., Ltd. (Cixi Yikang). As required by 19 CFR 351.214(b)(2)(i), (ii), and (iii)(A), each company identified above has certified that it did not export honey to the United States during the period of investigation (POI), and that it has never been affiliated with any exporter or producer which did export honey during the POI. Each company has further certified that its export activities are not controlled by the central government of the PRC, satisfying the requirements of 19 CFR 351.214(b)(2)(iii)(B). Pursuant to the Department's regulations at 19 CFR 351.214(b)(2)(iv), Wai Yuan and Jinfu submitted documentation establishing the date on which the subject merchandise was first entered for consumption in the United States, the volume of that first shipment, and the date of the first sale to an unaffiliated customer in the United States.

In accordance with section 751(a)(2)(B) of the Act, as amended, and 19 CFR 351.214(d)(1), and based on information on the record, we are initiating new shipper reviews for Wai Yuan and Jinfu. See also Memoranda to the File through Richard O. Weible, “New Shipper Review Initiation Checklist,” dated July 31, 2003, for each respective company. The Department is not initiating new shipper reviews for the remaining companies due to deficiencies in each of those companies' certifications.¹

¹ See letters to Anhui Honghui, Jiangsu Kanghong, Shanghai Shinomiel, and Eurasia from Richard O. Weible, dated July 31, 2003. See also Memoranda to the File through Richard O. Weible, “New Shipper Review Initiation Checklist,” dated July 31, 2003, for each respective company.

It is the Department's usual practice in cases involving non-market economies to require that a company seeking to establish eligibility for an antidumping duty rate separate from the country-wide rate provide evidence of de jure and de facto absence of government control over the company's export activities. Accordingly, we will issue questionnaires to Wai Yuan and Jinfu, including a separate rates section. If the responses provide sufficient indication that Wai Yuan and Jinfu are not subject to either de jure or de facto government control with respect to their exports of honey, the review will proceed. If, on the other hand, Wai Yuan and Jinfu do not demonstrate their eligibility for a separate rate, then they will be deemed not separate from other companies that exported during the POI and the review of that respondent will be rescinded.

Scope

The merchandise under review is honey from the PRC. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise under review is currently classifiable under item 0409.00.00, 1702.90.90, and 2106.90.99 of the Harmonized Tariff Schedule of the United States (HTSUS). Although the HTSUS subheading is provided for convenience and customs purposes, the written description of the merchandise under review is dispositive.

Initiation of Review

In accordance with section 751(a)(2)(B)(ii) of the Act and 19 CFR 351.214(d)(1), we are initiating new shipper reviews of the antidumping duty order on honey from the PRC. We intend to issue the preliminary results of these reviews not later than 180 days after the date on which these reviews were initiated, and the final results of these reviews within 90 days after the date on which the preliminary results were issued.

Pursuant to 19 CFR 351.214(g)(1)(i)(B) of the Department's regulations, the period of review (POR) for a new shipper review initiated in the month immediately following the semiannual anniversary month will be the six-month period immediately preceding the semiannual anniversary month. Therefore, the POR for these new shipper reviews is:

Antidumping duty proceeding | Period to be reviewed
Cheng Du Wai Yuan Bee Products Co., Ltd. | 12/01/02-05/31/03
Jinfu Trading Co., Ltd. | 12/01/02-05/31/03

We will instruct the U.S. Bureau of Customs and Border Protection (Customs) to allow, at the option of the importer, the posting, until the completion of the review, of a single entry bond or security in lieu of a cash deposit for certain entries of the merchandise exported by the above-listed companies. This action is in accordance with 19 CFR 351.214(e). As Wai Yuan has certified that it both produced and exported the subject merchandise, we will instruct Customs to limit Wai Yuan's bonding option only to such merchandise for which it is both the producer and exporter. For Jinfu, which has identified Cixi Yikang as the producer of subject merchandise for the sale under review, we will instruct Customs to limit the bonding option only to entries of subject merchandise from Jinfu that was produced by Cixi Yikang.

Interested parties that need access to proprietary information in these new shipper reviews should submit applications for disclosure under administrative protective orders in accordance with 19 CFR 351.305 and 351.306. This initiation and notice are in accordance with section 751(a) of the Act (19 U.S.C. 1675(a)) and 19 CFR 351.214(d).

Dated: July 31, 2003.
Joseph A. Spetrini,
Acting Assistant Secretary for Grant Aldonas, Under Secretary.

[FR Doc. 03-20423 Filed 8-8-03; 8:45 am]

BILLING CODE 3510-DS-P